NATIONAL AERONAUTICS AND SPACE ADMINISTRATION

Notice of Information Collection

(06-028).

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Mr. Walter Kit, PRA Officer, Office of the Chief Information Officer, JE000, National Aeronautics and Space Administration, Washington, DC 20546-0001.

FOR FURTHER INFORMATION CONTACT: Requests for additional information or copies of the information collection instrument(s) and instructions should be directed to Mr. Walter Kit, Reports Officer, Office of the Chief Information Officer, NASA Headquarters, 300 E Street SW., Mail Code JE000, Washington, DC 20546, (202) 358-1350, walter.kit-1@nasa.gov.

SUPPLEMENTARY INFORMATION:

I. Abstract

This information collection is used to assess the contribution of NASA Small Business Innovation Research (SBIR) technology to the National Economy in accordance with the Government Performance and Results Act (GPRA).

II. Method of Collection

The survey will be electronic and is available on NASA's SBIR Web site at http://www.sbir.nasa.gov/SBIR/survey.html. Electronic submission of the subject information is available to 100% of all surveyed firms.

III. Data

Title: NASA Small Business Innovation Research Commercial Metrics.

OMB Number: 2700—0095.

Type of Review: Extension of a currently approved collection.

Affected Public: Business or other for-profit.

Estimated Number of Respondents: 1,000/once every 3 years.

Estimated Total Annual Burden Hours: 200.

Estimated Total Annual Cost: $11,000.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Dated: April 29, 2006.
Patricia L. Dunnington,
Chief Information Officer.

[FR Doc. E6-6699 Filed 5-2-06; 8:45 am]

BILLING CODE 7510-13-P